DEPARTMENT OF COMMERCE

International Trade Administration

Notice of Request for Information for the Proposed United States-East African Community Commercial Dialogue

AGENCY: U.S. Department of Commerce, International Trade Administration.

ACTION: Notice of Request for Information.

SUMMARY: In June 2012, the East African Community (EAC) Secretariat, the EAC member country Governments, and the Government of the United States agreed to explore establishing a Commercial Dialogue as part of the U.S.-EAC Trade and Investment Partnership (“Partnership”). The U.S.-EAC Commercial Dialogue will be a consultative mechanism through which the United States, the EAC Secretariat, and EAC member country governments, will work to advance priorities that will strengthen the U.S.-EAC trade and investment relationship, as well as support the EAC's regional integration process. The Market Access and Compliance division of the International Trade Administration, through its Office of Africa, seeks public comment and recommendations concerning those areas upon which the Commercial Dialogue should focus its efforts in order to reflect the priorities and concerns of the business community, civil society, and other interested stakeholders. Proposed activities and areas of focus for the Commercial Dialogue are described in the Supplementary Information below.

DATES: Please send comments no later than 5:00 p.m. Eastern Daylight Time (EDT) on November 19, 2012.

ADDRESSES: You may send comments to Ludwika Alvarez, East Africa Desk Officer, Office of Africa, at Ludwika.Alvarez@trade.gov and Kate Innelli, Special Assistant to the Assistant Secretary for Market Access and Compliance, at Kate.Innelli@trade.gov.

FOR FURTHER INFORMATION CONTACT: Ludwika Alvarez, East Africa Desk Officer, Office of Africa, U.S. Department of Commerce, telephone: 202-482-4228, and email: Ludwika.Alvarez@trade.gov and Kate Innelli, Special Assistant to the Assistant Secretary for Market Access and Compliance, telephone: 202-482-3290, and email: Kate.Innelli@trade.gov.

SUPPLEMENTARY INFORMATION: International investors have recognized the EAC as the fastest growing economic region and the most economically attractive regional block in Sub-Saharan Africa. Under the EAC Customs Union (launched in 2005), the five member countries of the EAC (Kenya, Tanzania, Uganda, Rwanda and Burundi) have established a common external tariff; agreed to eliminate customs duties and remove non-tariff barriers on trade between member countries; made plans to harmonize procedures on customs, anti-dumping, and safeguards; and agreed to undertake common export promotion programs. The EAC member countries are also in the process of establishing a Common Market (launched in 2010), which aims to provide for free movement of goods, labor, services and capital among the EAC member countries.

In June 2011, United States Trade Representative Ron Kirk presented the EAC Secretary General with a proposal to enhance trade and investment at the U.S.-Sub-Saharan African Trade and Economic Cooperation Forum (AGOA Forum) in Zambia. On June 15, 2012, the Obama Administration, the EAC Secretary General, and Ministers of Trade from the EAC member countries announced their resolve to pursue a new Trade and Investment Partnership between the United States and the EAC, which would include exploring: (1) A regional investment treaty, (2) a trade facilitation agreement, (3) continued trade capacity building and (4) a Commercial Dialogue [http://www.ustr.gov/about-us/press-office/press-releases/2012/june/joint-statement-US-East-African-Community-Trade-Investment-Partnership]. This Partnership is part of the White House Strategy Toward Sub-Saharan Africa and builds on the existing trade and investment relationship, including AGOA and the U.S.-EAC Trade and Investment Framework Agreement [http://www.whitehouse.gov/sites/default/files/docs/africa_strategy_2.pdf].

The Department of Commerce is leading U.S. efforts to establish a Commercial Dialogue with the EAC, which would be the first U.S. Commercial Dialogue with Sub-Saharan African partners and the first U.S. Commercial Dialogue with a regional customs union.

The Commercial Dialogue will serve as an inter-governmental consultative forum, reflecting private sector priorities and input. The Commercial Dialogue will also promote business opportunities in key sectors linked to EAC development goals; foster an open and predictable business climate by providing a forum for addressing non-tariff trade barriers and other constraints to trade; support the EAC's integration process by facilitating stronger private sector ties between companies in the United States and the EAC and throughout the EAC region; and increase private sector input into the U.S.-EAC Trade and Investment Partnership. The EAC Secretariat, member countries' Ministries of Trade and the Department of Commerce are in the process of formalizing the Commercial Dialogue and developing an appropriate structure and agenda that would drive its activities.

Additional information, including a draft concept paper for the proposed Commercial Dialogue, can be found at https://www.trade.gov/EastAfricanCommunity (link expires on November 30, 2012).

The Department of Commerce is considering proposing two principal areas of focus for work under the Commercial Dialogue. First, Commerce plans to propose the promotion of business opportunities in key growth sectors, including the energy, transportation infrastructure, information and communication technology, and agribusiness sectors. A second proposed area of focus will be efforts to foster an open and predictable business climate by addressing: trade facilitation, customs and logistics; intellectual property rights; standards; and transparency. In developing a focused and strategic agenda for the work of the proposed Commercial Dialogue, Commerce is requesting comments on the above proposed areas of focus and on the development of an agenda for the proposed Commercial Dialogue from U.S. companies, U.S. trade associations (including American Chambers of Commerce in East Africa), and EAC Diaspora organizations in the United States.

In submitting comments, please address: Your company's, your member companies' or your organization's (hereafter “You” or “Your”) experiences and business activities in the above referenced areas of focus; Your viewpoint on any other appropriate areas of focus for the proposed Commercial Dialogue; Your perspective on priorities and challenges You face with respect to doing business in the EAC, especially with respect to the above referenced areas of focus; and Your proposals for actions or activities that Commerce could undertake in working with our EAC partners under the proposed Commercial Dialogue to promote business opportunities or to foster an open and predictable business climate. Please include with comments the name of your company or organization submitting comments, as well as email and telephone number for an appropriate contact person with the company or organization.

The Department of Commerce anticipates continuing to need input on the agenda and focus of the U.S.-EAC Commercial Dialogue going forward. Please feel free to contact the Office of Africa to provide advice and input on the U.S.-EAC trade and investment relationship or the U.S.-EAC Commercial Dialogue even after the close of the comment period.

Dated: November 1, 2012.
Michael C. Camuñez,
Assistant Secretary of Commerce for Market Access and Compliance.

[FR Doc. 2012-27088 Filed 11-5-12; 8:45 am]

BILLING CODE 3510-HE-P